NUCLEAR REGULATORY COMMISSION

[Docket No. 50-400]

Carolina Power and Light Company; Notice of Availability of the Final Supplement 33 to the Generic Environmental Impact Statement for License Renewal of Nuclear Plants, Regarding the License Renewal of Shearon Harris Nuclear Power Plant, Unit 1

Notice is hereby given that the U.S. Nuclear Regulatory Commission (NRC, Commission) has published a final plant-specific supplement to the “Generic Environmental Impact Statement for License Renewal of Nuclear Plants (GEIS),” NUREG-1437, regarding the renewal of operating license NPF-063 for an additional 20 years of operation for the Shearon Harris Nuclear Power Plant, Unit 1 (HNP). HNP is located in Wake County, North Carolina. Possible alternatives to the proposed action (license renewal) include no action and reasonable alternative energy sources.

As discussed in Section 9.3 of the final Supplement 33, based on: (1) The analysis and findings in the GEIS; (2) the Environmental Report submitted by Carolina Power and Light Company; (3) consultation with federal, state, and local agencies; (4) the NRC staff's own independent review; and (5) the NRC staff's consideration of public comments, the recommendation of the staff is that the Commission determine that the adverse environmental impacts of license renewal for HNP are not so great that preserving the option of license renewal for energy-planning decision makers would be unreasonable.

The final Supplement 33 to the GEIS is publicly available at the NRC Public Document Room (PDR), located at One White Flint North, 11555 Rockville Pike, Rockville, Maryland 20852, or from the NRC's Agencywide Documents Access and Management System (ADAMS). The ADAMS Public Electronic Reading Room is accessible at http://adamswebsearch.nrc.gov/dologin.htm. The Accession Number for the final Supplement 33 to the GEIS is ML082250290. Persons who do not have access to ADAMS, or who encounter problems in accessing the documents located in ADAMS, should contact the NRC's PDR Reference staff by telephone at 1-800-397-4209, or 301-415-4737, or by e-mail at pdr@nrc.gov. In addition, the West Regional Library, located at 4000 Louis Stephens Dr., Cary, NC 27519 as well as the Eva H. Perry Library, located at 2100 Shepherd's Vineyard Dr., Apex, NC 27502, have agreed to make the final Supplement 33 to the GEIS available for public inspection.

FOR FURTHER INFORMATION CONTACT: Mr. Samuel Hernandez, Projects Branch 1, Division of License Renewal, Office of Nuclear Reactor Regulation, U.S. Nuclear Regulatory Commission, Mail Stop O-11F1, Washington, DC, 20555-0001. Mr. Hernandez may be contacted by telephone at 1-800-368-5642, extension 4049 or via e-mail at samuel.hernandez@nrc.gov.

Dated at Rockville, Maryland, this 13th day of August, 2008.
For the Nuclear Regulatory Commission.
Bo Pham,
Acting Branch Chief, Projects Branch 1, Division of License Renewal, Office of Nuclear Reactor Regulation.

[FR Doc. E8-19377 Filed 8-20-08; 8:45 am]

BILLING CODE 7590-01-P